DEPARTMENT OF LABOR

Employment and Training Administration

Investigations Regarding Certifications Of Eligibility To Apply For Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 24, 2006.

Interested persons are invited to submit written comments regarding the subject matter of the investigations to the Director, Division of Trade Adjustment Assistance, at the address shown below, not later than April 24, 2006.

The petitions filed in this case are available for inspection at the Office of the Director, Division of Trade Adjustment Assistance, Employment and Training Administration, U.S. Department of Labor, Room C-5311, 200 Constitution Avenue, NW., Washington, DC 20210.

Signed at Washington, DC this 4th day of April 2006.
Erica R. Cantor,
Director, Division of Trade Adjustment Assistance.

APPENDIX
[TAA petitions instituted between 3/27/06 and 3/31/06]
TA-W | Subject Firm (petitioners) | Location | Date of institution | Date of petition
59085 | Barry Controls Defense and Industrial (State) | Camden, AR | 03/27/06 | 03/24/06
59086 | Flynn, LLC (Wkrs) | Greenville, KY | 03/27/06 | 03/24/06
59087 | Falcon Footwear Company (The) (Comp) | Lewiston, ME | 03/27/06 | 03/23/06
59088 | Moore Wallace, Inc. (Comp) | Iowa City, IA | 03/27/06 | 03/24/06
59089 | Affiliated Computer Services, Inc. (Wkrs) | Dallas, TX | 03/27/06 | 03/24/06
59090 | Culp, Inc. (Comp) | Graham, NC | 03/28/06 | 03/27/06
59091 | Eaton Corporation (Comp) | Marshall, MI | 03/28/06 | 03/27/06
59092 | Rapid Precision Machining (Comp) | Victor, NY | 03/28/06 | 03/24/06
59093 | Dana—Fluid Routing Group (State) | Paris, TN | 03/28/06 | 03/27/06
59094 | U.S. Baird Corporation (State) | Stratford, CT | 03/28/06 | 03/27/06
59095 | Burlington House Finishing Plant (Comp) | Burlington, NC | 03/28/06 | 03/27/06
59096 | dj Orthopedics (Comp) | Vista, CA | 03/28/06 | 03/21/06
59097 | Wolverine Proctor and Schwartz (State) | Merrimac, MA | 03/28/06 | 03/28/06
59098 | York International (UAW) | York, PA | 03/28/06 | 03/24/06
59099 | Delta Technicall Operations (Wkrs) | Atlanta, GA | 03/28/06 | 03/10/06
59100 | Thomasville Furniture (State) | Conover, NC | 03/29/06 | 03/28/06
59101 | SGI (Wkrs) | Chippewa Falls, WI | 03/29/06 | 03/16/06
59102 | I.M.C. (Wkrs) | Chicago, IL | 03/29/06 | 03/24/06
59103 | Ceramo Co., Inc. (Comp) | Jackson, MO | 03/29/06 | 03/27/06
59104 | TRW Automotive (Comp) | Cookeville, TN | 03/29/06 | 03/21/06
59105 | Solo Cup (State) | St. Albans, VT | 03/29/06 | 03/28/06
59106 | Barcoview, LLC (State) | Duluth, GA | 03/29/06 | 03/23/06
59107 | Guilford Mills, Inc. (Comp) | Greensboro, NC | 03/29/06 | 03/28/06
59108 | Dresser-Rand Steam Turbine Business Unit (Comp) | Millbury, MA | 03/29/06 | 03/28/06
59109 | Fuji Photo Film, Inc. (Comp) | Greenwood, SC | 03/29/06 | 03/28/06
59110 | Sony Electronics (Wkrs) | Mt. Pleasant, PA | 03/29/06 | 03/29/06
59111 | Eastman Kodak Co. (Wkrs) | Rochester, NY | 03/29/06 | 03/28/06
59112 | Volex, Inc. (Comp) | Clinton, AR | 03/29/06 | 03/29/06
59113 | Sara Lee Branded Apparel (Comp) | Galax, VA | 03/29/06 | 03/22/06
59114 | King Louie International (Comp) | Grandview, MO | 03/30/06 | 03/22/06
59115 | Pleasant Hill Mfg. Co. (Comp) | Baxter Springs, KS | 03/30/06 | 03/22/06
59116 | Pro Fit Cap Co. (Comp) | Paola, KS | 03/30/06 | 03/22/06
59117 | Point Technologies (State) | Gibbon, Mn | 03/30/06 | 03/23/06
59118 | Thomson, Inc. (Wkrs) | Circleville, OH | 03/30/06 | 03/24/06
59119 | Nanston, Inc. (Wkrs) | Norcross, GA | 03/30/06 | 03/07/06
59120 | Fruit of the Loom (Comp) | Rabun Gap, GA | 03/30/06 | 03/23/06
59121 | Rhodia Pharma Solutions (State) | Deepwater, NJ | 03/30/06 | 03/30/06
59122 | LeSportsac, Inc. (Comp) | Dandridge, TN | 03/30/06 | 03/30/06
59123 | Solectron (Wkrs) | Creedmoor, NC | 03/30/06 | 03/30/06
59124 | Regency Plastics (Comp) | McAllen, TX | 03/30/06 | 03/30/06
59125 | Weyerhaeuser Corporation (UAW) | Elmira Heights, NY | 03/30/06 | 03/28/06
59126 | OTR Wheel Engineering, Inc. (Comp) | Quincy, IL | 03/31/06 | 03/28/06
59127 | Cridge, Inc. (Comp) | Fallsington, PA | 03/31/06 | 03/22/06
59128 | Value Line Textiles, Inc. (Comp) | Lenoir City, TN | 03/31/06 | 03/30/06
59129 | Fraser Papers Ltd. (USWA) | Gorham, NH | 03/31/06 | 03/31/06
59130 | Bari Jay Fashion (Wkrs) | New York, NY | 03/31/06 | 03/17/06
59131 | Penncost Corporation (Union) | Marietta, PA | 03/31/06 | 03/24/06

[FR Doc. E6-5418 Filed 4-11-06; 8:45 am]

BILLING CODE 4510-30-P